DEPARTMENT OF COMMERCE

Foreign-Trade Zones Board

[Docket 15-2005]

Foreign-Trade Zone 22—Chicago, IL; Application for Subzone, Michelin North America (Tire Distribution), Monee, IL

An application has been submitted to the Foreign-Trade Zones Board (the Board) by the Illinois International Port District, grantee of FTZ 22, requesting special-purpose subzone status for the tire and tire accessory warehousing/distribution facility of Michelin North America (MNA), in Monee, Illinois. The application was submitted pursuant to the provisions of the Foreign-Trade Zones Act, as amended (19 U.S.C. 81a-81u), and the regulations of the Board (15 CFR part 400). It was formally filed on March 14, 2005.

The MNA facility (1 building, 721,761 sq. ft. on 34.9 acres) is located at 25850 S. Ridgeland Avenue, within the Bailly Ridge Corporate Center, Monee, Illinois (Will County). The facility (80 employees) may be used under FTZ procedures for warehousing, inspection, labeling, packaging, scrapping, and distribution of tires and tire accessories (including tire flaps, inner tubes and gaskets). Some 50 to 80 percent of the tires at the facility are sourced abroad. About 25-30 percent of the tires at the facility are currently re-exported.

Zone procedures would exempt MNA from Customs duty payments on foreign products that are re-exported. On domestic sales, the company would be able to defer payments until merchandise is shipped from the plant. MNA would be able to avoid duty on foreign products which become scrap/waste, estimated at 1-3 percent of total inventory. FTZ designation would further allow MNA to realize significant logistical/procedural benefits. The application indicates that the savings from zone procedures will help improve the facility's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is May 23, 2005. Rebuttal comments in response to material submitted during the foregoing period may be submitted during the subsequent 15-day period (to June 6, 2005).

A copy of the application and accompanying exhibits will be available for public inspection at the Office of the Foreign-Trade Zones Board's Executive Secretary at address Number 1 listed above, and at the U.S. Department of Commerce Export Assistance Center, 200 West Adams Street, Suite 2450, Chicago, IL 60606.

Dated: March 15, 2005.
Dennis Puccinelli,
Executive Secretary.

[FR Doc. 05-5623 Filed 3-21-05; 8:45 am]

BILLING CODE 3510-DS-P